DEPARTMENT OF TRANSPORTATION

Federal Motor Carrier Safety Administration

[Docket No. FMCSA-2021-0089]

Agency Information Collection Activities; Renewal Information Collection Request: National Consumer Complaint Database

AGENCY: Federal Motor Carrier Safety Administration (FMCSA), DOT.

ACTION: Notice and request for comments.

SUMMARY: In accordance with the Paperwork Reduction Act of 1995, FMCSA announces its plan to submit the Renewal Information Collection Request (ICR) described below to the Office of Management and Budget (OMB) for its review and approval and invites public comment. This renewal collection of information is for the National Consumer Complaint Database (NCCDB), which is an online interface allowing consumers, drivers and others to file complaints against unsafe and unscrupulous companies and/or their employees, including shippers, receivers and transportation intermediaries, depending on the type of complaint. These complaints cover a wide range of activities, including but not limited to driver harassment, coercion, movement of household goods, financial responsibility instruments for brokers and freight forwarders, Americans with Disability Act (ADA), Electronic Log Device (ELD), Medical Review Officer (MRO), and Substance Abuse Practitioner (SAP) complaints. FMCSA requests approval to renew the ICR titled “National Consumer Complaint Database” covered by OMB Control Number 2126-0067 in order to continue to collect consumer complaint information so FMCSA can use complaint data to take enforcement action, better inform FMCSA policies for safer motor carrier operations, and improve consumer protection.

DATES: We must receive your comments on or November 2, 2021.

ADDRESSES: You may submit comments identified by Federal Docket Management System (FDMS) Docket Number FMCSA-2021-0089 using any of the following methods:

• Federal eRulemaking Portal: http://www.regulations.gov. Follow the online instructions for submitting comments.

• Fax: 1-202-493-2251.

• Mail: Docket Services; U.S. Department of Transportation, 1200 New Jersey Avenue SE, West Building, Ground Floor, Room W12-140, Washington, DC 20590-0001.

• Hand Delivery or Courier: West Building, Ground Floor, Room W12-140, 1200 New Jersey Avenue SE, Washington, DC, between 9 a.m. and 5 p.m. E.T., Monday through Friday, except Federal holidays.

Instructions: All submissions must include the Agency name and docket number. For detailed instructions on submitting comments, see the Public Participation heading below. Note that all comments received will be posted without change to http://www.regulations.gov, including any personal information provided. Please see the Privacy Act heading below.

Docket: For access to the docket to read background documents or comments received, visit http://www.regulations.gov, and follow the online instructions for accessing the dockets, or go to the street address listed above.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Public Participation: The Federal eRulemaking Portal is available 24 hours each day, 365 days each year. You can obtain electronic submission and retrieval help and guidelines under the “help” section of the Federal eRulemaking Portal website. If you want us to notify you that we received your comments, please include a self-addressed, stamped envelope or postcard, or print the acknowledgement page that appears after submitting comments online. Comments received after the comment closing date will be included in the docket and will be considered to the extent practicable.

FOR FURTHER INFORMATION CONTACT: Ms. Donnice Wagoner, Department of Transportation, Federal Motor Carrier Safety Administration, Commercial Enforcement and Investigations Division/MC-ECC, West Building 6th Floor, 1200 New Jersey Avenue SE, Washington, DC 20590. Telephone: 202-366-8045. email: Donnice.Wagoner@dot.gov.

SUPPLEMENTARY INFORMATION:

Background

The FMCSA maintains online information and resources to assist drivers, others in the motor carrier industry, and members of the general public in filing safety complaints regarding household goods (HHG) carriers, hazardous material (HM) carriers, property carriers, cargo tank facilities, passenger carriers, electronic log devices (ELD), and Medical Review Officers (MRO) and Substance Abuse Professionals (SAP) reporting to the Agency's Drug and Alcohol Clearinghouse. There is also information pertaining to the filing of consumer complaints, particularly regarding HHG transportation and ADA compliance.¹ This online interface is known as the National Consumer Complaint Database (NCCDB). The NCCDB has contributed to safer motor carrier operations on our nation's highways by identifying carriers for investigations and improved consumer protection by ensuring moving companies use fair business practices. FMCSA uses the information collected in the NCCDB to monitor and induce non-compliant regulated entities to achieve and maintain compliance.

¹ The U.S. Department of Transportation (DOT) maintains reporting and other requirements for over-the-road buses (OTRBs) under its Americans with Disabilities Act (ADA) regulations. (For a complete listing of the DOT's ADA regulations, see 49 CFR parts 37 and 38.)

The NCCDB grew out of a telephone hotline known as the Safety Violation Hotline Service. Congress mandated this hotline in Section 4017 of the “Transportation Equity Act of the 21st Century,” Public Law 105-178, 112 Stat. 107, June 9, 1998. The Motor Carrier Safety Improvement Act of 1999, Pubic Law 106-159, 113 Stat. 1748, December 9, 1999, created the Federal Motor Carrier Safety Administration and section 213 of the Act expanded the Safety Violation Hotline Service to include a 24-hour operation. On August 10, 2005, Congress enacted the Safe, Accountable, Flexible, and Efficient Transportation Equity Act: A Legacy for Users, (SAFETEA-LU), Public Law 109-59, 119 Stat. 1144. Section 4214 of SAFETEA-LU requires DOT to create a system to record and log aggregate complaint information regarding violations of the Federal Motor Carrier Safety Regulations.

The NCCDB fulfills the requirements of these mandates. Complaints are accepted through the NCCDB in connection with other statutory mandates, including, but not limited to, protection of drivers against harassment and coercion under sections 32301(b) and 32911, respectively, of the Moving Ahead for Progress in the 21st Century Act, Public Law 112-141, 126 Stat. 405. The NCCDB also accepts complaints from interested parties regarding third party intermediaries (brokers and freight forwarders) and their associated financial responsibility instruments.

Title: National Consumer Complaint Database.

OMB Control Number: 2126-0067.

Type of Request: Information collection request renewal.

Respondents: Consumers, Drivers, and Other Participants in the Motor Carrier Industry.

Estimated Number of Respondents: 18,546 respondents.

Estimated Time per Response: 15 minutes.

Expiration Date: February 28, 2022.

Frequency of Response: On occasion.

Estimated Total Annual Burden: 4,638 hours [18,546 respondents × 1 response per respondent × 15 minutes per response = 4,638]. Note that estimates may not match exactly due to rounding.

Public Comments Invited: You are asked to comment on any aspect of this information collection, including: (1) Whether the proposed collection is necessary for the agency to perform its mission; (2) the accuracy of the estimated burden; (3) ways for the FMCSA to enhance the quality, usefulness, and clarity of the collected information; and (4) ways that the burden could be minimized without reducing the quality of the collected information. The agency will summarize or include your comments in the request for OMB's clearance of this information collection.

Issued under the authority of 49 CFR 1.87.
Thomas P. Keane,
Associate Administrator, Office of Research and Registration.

[FR Doc. 2021-19079 Filed 9-2-21; 8:45 am]

BILLING CODE 4910-EX-P